DEPARTMENT OF COMMERCE

National Oceanic and Atmospheric Administration

RIN 0648-XC503

Western Pacific Fishery Management Council; Public Meetings

AGENCY: National Marine Fisheries Service (NMFS), National Oceanic and Atmospheric Administration (NOAA), Commerce.

ACTION: Notice of public meetings and hearings.

SUMMARY: The Western Pacific Fishery Management Council (Council) will hold meetings of its Executive and Budget Standing Committee and 156th Council to take actions on fishery management issues in the Western Pacific Region.

DATES: The meetings will be held March 11, 2013 through March 14, 2013. All meetings will be held in Pago Pago, American Samoa. For specific times and agendas, see SUPPLEMENTARY INFORMATION.

ADDRESSES: The Executive and Budget Standing Committee meetings will be held at Sadies by the Sea in Pago Pago, American Samoa. The 156th Council meeting and Fishers Forum will be held at the Governor H. Rex Lee Auditorium (or Fale Laumei), Department of Commerce, Government of American Samoa, Pago Pago, American Samoa; telephone: (684) 633-5155.

FOR FURTHER INFORMATION CONTACT: Kitty M. Simonds, Executive Director; telephone: (808) 522-8220.

SUPPLEMENTARY INFORMATION: The Council's Executive and Budget Standing Committee will meet on March 11, 2013, between 10 a.m. and 12 noon; the 156th Council will meet on March 12-14, 2013. The 156th Council meeting will be held between 8:30 a.m. and 5:30 p.m. on March 12, 2013, between 8:30 a.m. and 5 p.m. on March 13, 2013, and between 8:30 a.m. and 5 p.m. on March 14, 2013. A Fishers Forum will be held in association with the 156th Council Meeting between 6 p.m. and 9 p.m. on March 12, 2013.

In addition to the agenda items listed here, the Council will hear recommendations from Council advisory groups. Public comment periods will be provided throughout the agendas. The order in which agenda items are addressed may change. The meetings will run as late as necessary to complete scheduled business.

10 a.m.-12 Noon, Monday, March 11, 2013

Executive and Budget Standing Committee Meeting

Schedule and Agenda for 156th Council Meeting

8:30 a.m.-5 p.m., Tuesday, March 12, 2013

1. Opening Ceremony

2. Governor's Remarks

3. Welcome and Introductions

4. Welcoming Remarks

5. National Oceanic and Atmospheric Administration (NOAA) Fisheries Remarks

6. Approval of the 156th Agenda

7. Approval of the 155th Meeting Minutes

8. Executive Director's Report

9. Agency Reports

A. National Marine Fisheries Service (NMFS)

1. Pacific Islands Regional Office (PIRO)

2. Pacific Islands Fisheries Science Center (PIFSC)

B. NOAA Office of General Counsel, Pacific Islands Report

C. NOAA

D. U.S. Fish and Wildlife Service

E. Enforcement

1. U.S. Coast Guard

2. NMFS Office for Law Enforcement

3. NOAA General Counsel for Enforcement and Litigation

F. Public Comment

G. Council Discussion and Action

10. American Samoa Archipelago

A. Motu Lipoti

B. Fono Report

C. Update on Two-Samoas Initiative

D. Enforcement Issues

E. Community Activities and Issues

1. Update on Community Fisheries Development

2. Report on Samoa Tuna Packers Cannery Development

F. Update on American Samoa National Marine Sanctuary

G. Rose Atoll Marine National Monument

1. NMFS PIRO/PIFSC Monument Projects

2. Update on Rose Atoll Marine National Monument

3. American Samoa Community College Rose Atoll Study

H. Cook Islands Satellite Fisheries Office

I. Education and Outreach Initiatives

J. Coastal Marine Spatial Planning (CMSP) Workshop

K. Scientific and Statistical Committee (SSC) Recommendations

L. Public Comments

M. Council Discussion and Action

11. Public Comment on Non-Agenda Items

Fishers Forum: Coastal and Marine Spatial Planning and Environmental Monitoring for Pago Pago Bay

8:30 a.m.-5 p.m., Wednesday, March 13, 2013

12. Program Planning and Research

A. Report on Fisheries Data Coord. Committee

B. Methods for ACL Specifications

C. Report on the NMFS Science Plan

D. Marianas Skipjack Resource Assessment

E. National Ocean Council Governance Coordination Committee

F. Update on Pacific Islands Regional Planning Body

G. Education and Outreach

1. Other Activities

H. SSC Recommendations

I. Public Comment

J. Council Discussion and Action

13. Protected Species

A. False Killer Whale Assessments: Report of SSC Subcommittee

B. Update on Endangered Species Act (ESA) and Marine Mammal Protection Act (MMPA) Actions

1. Final False Killer Whale Take Reduction Plan

2. List the Main Hawaiian Islands Insular False Killer Whales as Endangered under the ESA

3. List 66 Species of Coral as Endangered or Threatened under the ESA

C. ESA Section 7 Re-consultation of the Hawaii Deep-set Longline Fishery

D. Update on the Monk Seal Recovery Program

E. Update on the Council Coordinating Committee/Marine Fisheries Advisory Committee (CCC/MAFAC) ESA Working Group

F. Update on the Council Sea Turtle Conservation Program

G. SSC Recommendations

H. Public Comment

I. Council Discussion and Action

14. Mariana Archipelago

A. Island Reports

1. Arongo Flaeey

2. Isla Informe

B. Legislative Report

1. Commonwealth of the Northern Mariana Islands (CNMI)

2. Guam

C. Enforcement Issues

1. CNMI

2. Guam

D. PIRO/PIFSC Marianas Trench Monument Projects

E. Community Activities and Issues

F. Education and Outreach Initiatives

G. Tanapag CMSP Training Workshop Report

H. SSC Recommendations

I. Public Comment

J. Council Discussion and Action

8:30 a.m.-5 p.m., Thursday, March 14, 2013

15. Pelagic & International Fisheries

A. Action Item

1. Management Options for American Samoa South Pacific Albacore Fishery

B. American Samoa and Hawaii Longline Quarterly Reports

C. Outcomes of the Ninth Regular Session of the Western and Central Pacific Commission (WCPFC 9)

D. SSC Recommendations

E. Public Hearing

F. Council Discussion and Action

16. Hawaii Archipelago and Pacific Remote Islands Areas (PRIAs)

A. Moku Pepa

B. Department of Land and Natural Resources (DLNR) Report

1. Deep Sea to Clouds (fisheries/watershed management)

2. Enforcement

3. Legislation

C. Hawaii Green Sea Turtle Status Review under the ESA

D. Bottomfish Fishery

1. Report on State Evaluation of Bottomfish Restricted Areas (BRFAs) through Bottom Camera (BotCam) Research

2. Report on Main Hawaiian Islands (MHI) Bottomfish Research Coordination Meeting

E. Community Projects, Activities and Issues

1. Community Development Program (CDP) Multi-fishery Proposal

2. Report on Aha Moku Projects

F. Report on PIRO/PIFSC Northwestern Hawaiian Islands (NWHI) Monument Projects

G. Education and Outreach Activities

1. Other Hawaii Outreach Activities

H. SSC Recommendations

I. Public Comment

J. Council Discussion and Action

17. Administrative Matters

A. Financial Reports

B. Administrative Reports

C. Department of Commerce Inspector General's (IG) Report on Council Rulemaking Process

D. Marine Fishery Allocation Issues Report

E. Council Family Changes

1. SSC

2. Protected Species Standing Committee

3. Plan Team

4. Noncommercial Advisory Committee

F. Meetings and Workshops

G. Other Business

H. Standing Committee Recommendations

I. Public Comment

J. Council Discussion and Action

18. Other Business

Non-Emergency issues not contained in this agenda may come before the Council for discussion and formal Council action during its 156th meeting. However, Council action on regulatory issues will be restricted to those issues specifically listed in this document and any regulatory issue arising after publication of this document that requires emergency action under section 305(c) of the Magnuson-Stevens Act, provided the public has been notified of the Council's intent to take action to address the emergency.

Special Accommodations

These meetings are physically accessible to people with disabilities. Requests for sign language interpretation or other auxiliary aids should be directed to Kitty M. Simonds, (808) 522-8220 (voice) or (808) 522-8226 (fax), at least 5 days prior to the meeting date.

Authority: 16 U.S.C. 1801 et seq.

Dated: February 12, 2013.
Tracey L. Thompson,
Acting Deputy Director, Office of Sustainable Fisheries, National Marine Fisheries Service.

[FR Doc. 2013-03665 Filed 2-15-13; 8:45 am]

BILLING CODE 3510-22-P